DEPARTMENT OF TRANSPORTATION

Federal Aviation Administration

14 CFR Part 39

[Docket No. FAA-2007-28844; Directorate Identifier 2007-CE-066-AD; Amendment 39-15261; AD 2007-23-15]

RIN 2120-AA64

Airworthiness Directives; Aeromot-Industria Mecanico Metalurgica Ltda. Model AMT-100/200/200S/300 Gliders

AGENCY: Federal Aviation Administration (FAA), Department of Transportation (DOT).

ACTION: Final rule.

SUMMARY: We are adopting a new airworthiness directive (AD) for the products listed above. This AD results from mandatory continuing airworthiness information (MCAI) issued by an aviation authority of another country to identify and correct an unsafe condition on an aviation product. The MCAI describes the unsafe condition as:

It has been found the occurrence of incorrect use of the self-locking nuts in bolts subject to rotational loads in bolted fittings of some assemblies of metallic components. Such event may result in disconnection of those fittings, which jeopardizes the structural integrity of the aircraft or its flight controls.

Since this condition may occur in other airplanes of the same type and affects flight safety, a corrective action is required. Thus, sufficient reason exists to request compliance with this AD in the indicated time limit.

We are issuing this AD to require actions to correct the unsafe condition on these products.

DATES: This AD becomes effective December 26, 2007.

On December 26, 2007, the Director of the Federal Register approved the incorporation by reference of certain publications listed in this AD.

ADDRESSES: You may examine the AD docket on the Internet at http://www.regulations.gov or in person at Document Management Facility, U.S. Department of Transportation, Docket Operations, M-30, West Building Ground Floor, Room W12-140, 1200 New Jersey Avenue, SE., Washington, DC 20590.

FOR FURTHER INFORMATION CONTACT: Greg Davison, Glider Program Manager, FAA, Small Airplane Directorate, 901 Locust, Room 301, Kansas City, Missouri 64106; telephone: (816) 329-4130; fax: (816) 329-4090.

SUPPLEMENTARY INFORMATION:

Discussion

We issued a notice of proposed rulemaking (NPRM) to amend 14 CFR part 39 to include an AD that would apply to the specified products. That NPRM was published in the Federal Register on August 21, 2007 (72 FR 46580). That NPRM proposed to correct an unsafe condition for the specified products. The MCAI states:

It has been found the occurrence of incorrect use of the self-locking nuts in bolts subject to rotational loads in bolted fittings of some assemblies of metallic components. Such event may result in disconnection of those fittings, which jeopardizes the structural integrity of the aircraft or its flight controls.

Since this condition may occur in other airplanes of the same type and affects flight safety, a corrective action is required. Thus, sufficient reason exists to request compliance with this AD in the indicated time limit.

The MCAI requires the replacement of washers, nuts, and bolts installed in the applicable assemblies with new bolts, washers, and castellated nuts with cotter pins.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

Costs of Compliance

We estimate that this AD will affect 56 products of U.S. registry. We also estimate that it will take about 8 work-hours per product to comply with basic requirements of this AD. The average labor rate is $80 per work-hour. Required parts will cost about $430 per product.

Based on these figures, we estimate the cost of this AD to the U.S. operators to be $59,920 or $1,070 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-23-15 Aeromot-Industria Mecanico Metalurgica Ltda.: Amendment 39-15261; Docket No. FAA-2007-28844; Directorate Identifier 2007-CE-066-AD.

Effective Date

(a) This airworthiness directive (AD) becomes effective December 26, 2007.

Affected ADs

(b) None.

Applicability

(c) This AD applies to the following gliders in the table below that:

(1) Are certificated in any category; and

(2) Have not incorporated the actions in their entirety of Aeromot SB No. 200-20-102, revision A, dated April 19, 2005; or Aeromot SB No. 200-20-102, revision B, dated January 23, 2006.

Models | Serial Nos.
AMT-100 | 100.001 through 100.003, 100.005 through 100.015, 100.017, 100.019, 100.022 through 100.039, and 100.041 through 100.044.
AMT-100 (modified to AMT-200) | 100.004, 100.016, 100.018, 100.020, and 100.021.
AMT-200 | 200.040, 200.045 through 200.105, 200.108 through 200.111, 200.113 through 200.118, and 200.121.
AMT-200S | 200.119, 200.122 through 200.124, and 200.126 through 200.161.
AMT-300 | 300.106, 300.107, 300.115, and 300.125.

Subject

(d) Air Transport Association of America (ATA) Code 51: Structures.

Reason

(e) The mandatory continuing airworthiness information (MCAI) states:

It has been found the occurrence of incorrect use of the self-locking nuts in bolts subject to rotational loads in bolted fittings of some assemblies of metallic components. Such event may result in disconnection of those fittings, which jeopardizes the structural integrity of the aircraft or its flight controls.

Since this condition may occur in other airplanes of the same type and affects flight safety, a corrective action is required. Thus, sufficient reason exists to request compliance with this AD in the indicated time limit.

The MCAI requires the replacement of washers, nuts and bolts installed in the applicable assemblies with new bolts, washers and castellated nuts with cotter pins.

Actions and Compliance

(f) Unless already done, within the next 50 hours time-in-service (TIS) after December 26, 2007 (the effective date of this AD), following Aeromot Service Bulletin No. 200-20-102 Rev. B, dated January 23, 2006, install new bolts, washers, and castellated nuts with cotter pins in the following areas:

(1) Both main landing gear legs,

(2) Swivel tail wheel,

(3) Eye-bolt fittings located at firewall inside cabin,

(4) Left and right rudder pedal assembly,

(5) Bellcranks of the rudder cables assembly,

(6) Bellcranks of the propeller pitch control assembly, and

(7) Left and right wing hinge point.

FAA AD Differences

Note: This AD differs from the MCAI and/or service information as follows: No differences.

Other FAA AD Provisions

(g) The following provisions also apply to this AD:

(1) Alternative Methods of Compliance (AMOCs): The Manager, Standards Office, FAA, has the authority to approve AMOCs for this AD, if requested using the procedures found in 14 CFR 39.19. Send information to ATTN: Greg Davison, Glider Program Manager, FAA, Small Airplane Directorate, 901 Locust, Room 301, Kansas City, Missouri 64106; telephone: (816) 329-4130; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI Departamento de Aviacao Civil (DAC), which is the aviation authority for Brazil, AD No. 2005-12-01; and Aeromot Service Bulletin No. 200-20-102, Revision B, dated January 23, 2006, for related information.

Material Incorporated by Reference

(i) You must use Aeromot Service Bulletin No. 200-20-102, Revision B, dated January 23, 2006, to do the actions required by this AD, unless the AD specifies otherwise.

(1) The Director of the Federal Register approved the incorporation by reference of this service information under 5 U.S.C. 552(a) and 1 CFR part 51.

(2) For service information identified in this AD, contact Aeromot, Av. das Industrias, 1290 Porto Alegre—RS—Brazil; telephone: +55 51 3357 8550; fax: +55 51 3371 1655.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on November 7, 2007.
John Colomy,
Acting Manager, Small Airplane Directorate, Aircraft Certification Service.

[FR Doc. E7-22176 Filed 11-19-07; 8:45 am]

BILLING CODE 4910-13-P